DEPARTMENT OF EDUCATION

[Docket No. ED-2020-SCC-0135]

Agency Information Collection Activities; Comment Request; CARES Act 18004(a)(3) Discretionary Grant Application

AGENCY: Office of Postsecondary Education (OPE), Department of Education (ED).

ACTION: Notice.

SUMMARY: In accordance with the Paperwork Reduction Act of 1995, ED is requesting the Office of Management and Budget (OMB) to conduct an emergency review of a new information collection.

DATES: OMB approved this information collection under emergency processing on August 18, 2020. To provide the public with an opportunity to comment, a regular clearance process is hereby being initiated. Interested persons are invited to submit comments on or before September 24, 2020.

ADDRESSES: Written comments and recommendations for proposed information collection requests should be sent within 30 days of publication of this notice to www.reginfo.gov/public/do/PRAMain. Find this particular information collection request by selecting “Department of Education” under “Currently Under Review,” then check “Only Show ICR for Public Comment” checkbox.

FOR FURTHER INFORMATION CONTACT: For specific questions related to collection activities, please contact Karen Epps, 202-453-6337.

SUPPLEMENTARY INFORMATION: The Department of Education (ED), in accordance with the Paperwork Reduction Act of 1995 (PRA) (44 U.S.C. 3506(c)(2)(A)), provides the general public and Federal agencies with an opportunity to comment on proposed, revised, and continuing collections of information. This helps the Department assess the impact of its information collection requirements and minimize the public's reporting burden. It also helps the public understand the Department's information collection requirements and provide the requested data in the desired format. ED is soliciting comments on the proposed information collection request (ICR) that is described below. The Department of Education is especially interested in public comment addressing the following issues: (1) Is this collection necessary to the proper functions of the Department; (2) will this information be processed and used in a timely manner; (3) is the estimate of burden accurate; (4) how might the Department enhance the quality, utility, and clarity of the information to be collected; and (5) how might the Department minimize the burden of this collection on the respondents, including through the use of information technology. Please note that written comments received in response to this notice will be considered public records.

Title of Collection: CARES Act 18004(a)(3) Discretionary Grant Application.

OMB Control Number: 1840-NEW.

Type of Review: A new information collection.

Respondents/Affected Public: State, Local and Tribal Organizations; Private Sector.

Total Estimated Number of Annual Responses: 250.

Total Estimated Number of Annual Burden Hours: 18,750.

Abstract: Section 18004(a)(3) of the CARES Act authorizes the Secretary to allocate funds for part B of Title VII of the HEA, for institutions of higher education that the Secretary determines have the greatest unmet needs related to coronavirus. This collection includes application materials that will be used by institutions competing for discretionary grant funding under this section.

This collection is being submitted under the Streamlined Clearance Process for Discretionary Grant Information Collections (1894-0001). Therefore, the 30-day public comment period notice will be the only public comment notice published for this information collection request. An emergency clearance approval was previously requested to be able to issue these awards in a timely manner. These awards are particularly needed by IHEs that have experienced the greatest economic and educational disruptions caused by 2019-nCoV in order to support their recovery.

Dated: August 20, 2020.
Kate Mullan,
PRA Coordinator, Strategic Collections and Clearance, Governance and Strategy Division, Office of Chief Data Officer, Office of Planning, Evaluation and Policy Development.

[FR Doc. 2020-18594 Filed 8-24-20; 8:45 am]

BILLING CODE 4000-01-P